DEPARTMENT OF LABOR

Office of the Secretary

Submission for OMB Review: Comment Request

October 13, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting Ira Mills at the Department of Labor on 202-693-4122 (this is not a toll-free number) or E-Mail: Mills.Ira@dol.gov. This ICR can also be accessed online at http://www.doleta.gov/OMBCN/OMBControlNumber.cfm. ICRs are filed according to the date the 60-day Notice for Public Comment was published in the Federal Register Notice; therefore, on the left hand side of this site, look under July 25, 2006 to access 1205-0441.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Evaluation of the Individual Training Account Experiment.

OMB Number: 1205-0441.

Frequency: One time, follow-up, as needed.

Affected Public: Individuals or households.

Type of Response: Reporting.

Number of Respondents: 3,840.

Annual Responses: 3,840.

Average Response time: 30 minutes.

Total Annual Burden Hours: 1,920.

Total Annualized Capital/Startup Costs: 0.

Total Annual Costs (operating/maintaining systems or purchasing services): 0.

Description: This clearance package seeks approval for the extension of the currently approved follow-up survey for the Individual Training Account (ITA) Experiment. The experiment is designed to test three different approaches to providing ITAs. Data from the follow-up survey of ITA customers will be used by Mathematica Policy Research, Inc. to describe experiences inside the workforce system and labor market outcomes for ITA customers. Measures of these experiences and outcomes would be used to further evaluate the three approaches. Based on information from the survey and other data sources, the U.S. Department of Labor can provide information to local workforce boards on how to administer their ITA programs.

Ira L. Mills,
Departmental Clearance Officer, Team Leader.

[FR Doc. E6-17356 Filed 10-17-06; 8:45 am]

BILLING CODE 4510-30-P